DEPARTMENT OF JUSTICE

Office of Justice Programs; National Institute of Justice

[OMB Number 1121-0310]

Agency Information Collection Activities; Proposed Collection; Comment Requested

ACTION: 30-day notice of information collection under review: Evaluation of Impacts of Federal Casework Programs.

The Department of Justice, Office of Justice Programs, National Institute of Justice (NIJ) has submitted the following information collection request to the Office of Management and Budget (OMB) for review and approval in accordance with the Paperwork Reduction Act of 1995. The proposed information collection is published to obtain comments from the public and affected agencies. This proposed information collection was previously published in the Federal Register Volume 72, Number 27, pages 6289-6290, on February 9, 2007, allowing for a 60-day comment period.

The purpose of this notice is to allow for an additional 30 days for public comment until May 14, 2007. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies' estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g. permitting electronic submission of responses.

Overview of this information collection:

(1) Type of Information Collection: New collection.

(2) Title of the Form/Collection: Evaluation of Impact of Federal Casework Programs—

Prosecutor Survey;

Law Enforcement Survey;

*Lab Personnel Survey.

*There are three versions of the lab survey, each tailored to the respective type of lab.

(3) Not Applicable.

(4) Affected public who will be asked or required to respond are: Prosecutors, Law Enforcement Officials, and Forensic Laboratory personnel from agencies within the jurisdiction represented by the grantees. The National Institute of Justice uses this information to assess the impacts and cost-effectiveness of the Forensic Casework DNA Backlog Programs over time and to diagnose performance problems in current casework programs. This evaluation will help decision makers be better informed to not only diagnose program performance problems, but also to better understand whether the benefits of DNA collection and testing are in fact an effective public safety and crime control practice.

(5) An estimate of the total number of respondents and the amount of time needed for an average respondent to respond is broken down as follows:

Law Enforcement—200 respondents, average burden time 120 minutes—400 hours total.

Prosecutors—200 respondents, average burden time 90 minutes—300 hours total.

Lab personnel—135 respondents average burden 120 minutes—270 hours total.

(6) An estimate of the total public burden (in hours) associated with the collection:

The estimated total public burden associated with this collection is 970 hours.

If additional information is required, contact: Lynn Bryant, Department Clearance Officer, United States Department of Justice, Policy and Planning Staff, Justice Management Division, Patrick Henry Building, Suite 1600, 601 D Street, NW., Washington, DC 20530.

Dated: April 9, 2007.
Lynn Bryant,
Department Clearance Officer, PRA Department of Justice.

[FR Doc. E7-7058 Filed 4-12-07; 8:45 am]

BILLING CODE 4410-18-P